DEPARTMENT OF THE INTERIOR

National Park Service

Extension of Expiring Contracts For Up to One Year; Correction

AGENCY: National Park Service, Interior.

ACTION: Notice of correction.

SUMMARY: The National Park Service published notice of its intention to extend certain expiring concession contracts for a period of up to one year in the Federal Register on December 1, 2000 (pages 75296-75300). Certain contracts were incorrectly identified or improperly included in that notice. The following corrections should be made to that notice:

1. The following contracts are no longer in existence and should be deleted from the list:

Concessioner identification no. | Concessioner name | Park
YELL135 | Linn Brothers Outfitting | Yellowstone National Park
YELL142 | JR Outfitting & Guide Service | Yellowstone National Park
YELL150 | Buffalo Horn Outfitters | Yellowstone National Park
YELL152 | Crossbow Outfitters | Yellowstone National Park
YELL154 | Star Valley Llama | Yellowstone National Park
YELL163 | Bar Diamond G | Yellowstone National Park
YELL171 | Swift Creek Outfitters | Yellowstone National Park

2. The concessioners' names on the following contracts were listed incorrectly, and should be changed as follows:

Concessioner identification no. | Concessioner name | Park
JODR007 | Goosewing Ranch Snowmobile Safaries | John D. Rockefeller Memorial Parkway
JODR012 | Cowboy Village Resort | John D. Rockefeller Memorial Parkway
YELL107 | Wyoming Backcountry Adventures | Yellowstone National Park
YELL108 | Bleu Sky Pack Station, Inc | Yellowstone National Park
YELL137 | Miller's Wilderness Park Trips | Yellowstone National Park
YELL147 | Farvalley Ranch | Yellowstone National Park
YELL149 | T Lazy T Outfitters | Yellowstone National Park
YELL156 | Two Ocean Pass Ranch | Yellowstone National Park
YELL159 | Ron Dube's Wilderness Adventures | Yellowstone National Park
YELL164 | Covered Wagon Ranch | Yellowstone National Park
YELL301 | Loomis Enterprises | Yellowstone National Park
YELL400 | Ace Snowmobile Tours | Yellowstone National Park
YELL408 | Two Top Snowmobile Tours | Yellowstone National Park

EFFECTIVE DATE: December 15, 2000.

FOR FURTHER INFORMATION CONTACT: Cynthia Orlando, Concession Program Manager, National Park Service, Washington, DC 20240, Telephone (202) 565-1210.

Dated: December 11, 2000.
Richard G. Ring,
Associate Director, Park Operations and Education.

[FR Doc. 00-32015 Filed 12-14-00; 8:45 am]

BILLING CODE 4310-70-M